DEPARTMENT OF TRANSPORTATION

Federal Aviation Administration

14 CFR Part 39

[Docket No. FAA-2008-0119; Directorate Identifier 2007-NM-304-AD; Amendment 39-15475; AD 2008-08-21]

RIN 2120-AA64

Airworthiness Directives; Empresa Brasileira de Aeronautica S.A. (EMBRAER) Model ERJ 170 Airplanes and Model ERJ 190 Airplanes

AGENCY: Federal Aviation Administration (FAA), Department of Transportation (DOT).

ACTION: Final rule.

SUMMARY: The FAA is superseding an existing airworthiness directive (AD), which applies to all EMBRAER Model ERJ 170-100 LR, -100 SE, -100 STD, and -100 SU airplanes; and Model ERJ 190-100 IGW, -100 LR, and -100 STD airplanes. That AD currently requires revising the Limitations section of the airplane flight manual (AFM) to prohibit the flightcrew from moving the throttle into the forward thrust range immediately after applying the thrust reverser. This new AD adds additional airplanes to the applicability and requires the AFM revision for those additional airplanes. For certain airplanes, this AD also requires installing new, improved full-authority digital engine-control (FADEC) software. This AD results from a report that, during landing, the thrust reverser may not re-stow completely if the throttle lever is moved into the forward thrust range immediately after the thrust reverser is applied. We are issuing this AD to prevent the flightcrew from performing a takeoff with a partially deployed thrust reverser, which could result in reduced controllability of the airplane.

DATES: This AD becomes effective May 27, 2008.

The Director of the Federal Register approved the incorporation by reference of certain publications listed in the AD as of May 27, 2008.

ADDRESSES: For service information identified in this AD, contact Empresa Brasileira de Aeronautica S.A. (EMBRAER), P.O. Box 343-CEP 12.225, Sao Jose dos Campos-SP, Brazil.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

The FAA issued a notice of proposed rulemaking (NPRM) to amend 14 CFR part 39 to include an AD that supersedes AD 2006-11-15, amendment 39-14619 (71 FR 30577, May 30, 2006). The existing AD applies to all EMBRAER Model ERJ 170-100 LR, -100 SE, -100 STD, and -100 SU airplanes; and all Model ERJ 190-100 IGW, -100 LR, and -100 STD airplanes. That NPRM was published in the Federal Register on February 5, 2008 (73 FR 6631). That NPRM proposed to continue to require revising the Limitations section of the airplane flight manual (AFM) to prohibit the flightcrew from moving the throttle into the forward thrust range immediately after applying the thrust reverser. That NPRM also proposed to add additional airplanes to the applicability and require the AFM revision for those additional airplanes. For certain airplanes, that NPRM also proposed to require installing new, improved full-authority digital engine-control software.

Comments

We provided the public the opportunity to participate in the development of this AD. We have considered the single comment that has been received on the NPRM. The commenter, Air Line Pilots Association, International, supports the NPRM.

Conclusion

We have carefully reviewed the available data, including the comment that has been received, and determined that air safety and the public interest require adopting the AD as proposed.

Costs of Compliance

The following table provides the estimated costs, at an average labor rate of $80 per hour, for U.S. operators to comply with this AD.

Estimated Costs
Action | Work hours | Parts | Cost per airplane | Number of U.S.-registered airplanes | Fleet cost
AFM revision (required by AD 2006-11-15) | 1 | None | $80 | 76 | $6,080
AFM revision (new action) | 1 | None | 80 | 57 | 4,560
Software installation (new action) | 1 | The manufacturer states that it will supply the required software to operators at no cost | 80 | 133 | 10,640

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14619 (71 FR 30577, May 30, 2006) and by adding the following new airworthiness directive (AD):

2008-08-21 Empresa Brasileira de Aeronautica S.A. (EMBRAER): Amendment 39-15475. Docket No. FAA-2008-0119; Directorate Identifier 2007-NM-304-AD.

Effective Date

(a) This AD becomes effective May 27, 2008.

Affected ADs

(b) This AD supersedes AD 2006-11-15.

Applicability

(c) This AD applies to all EMBRAER Model ERJ 170-100 LR, -100 SE, -100 STD, -100 SU, -200 LR, -200 STD, and -200 SU airplanes; and Model ERJ 190-100 IGW, -100 LR, -100 STD, -200 IGW, -200 LR, and -200 STD airplanes; certificated in any category.

Unsafe Condition

(d) This AD results from a report that, during landing, the thrust reverser may not re-stow completely if the throttle lever is moved into the forward thrust range immediately after the thrust reverser is applied. We are issuing this AD to prevent the flightcrew from performing a takeoff with a partially deployed thrust reverser, which could result in reduced controllability of the airplane.

Compliance

(e) You are responsible for having the actions required by this AD performed within the compliance times specified, unless the actions have already been done.

Restatement of Requirements of AD 2006-11-15

Airplane Flight Manual (AFM) Revision

(f) For Model ERJ 170-100 LR, -100 SE, -100 STD, and -100 SU airplanes; and Model ERJ 190-100 IGW, -100 LR, -100 STD airplanes: Within 7 days after June 14, 2006 (the effective date of AD 2006-11-15), revise the Limitations section of the EMBRAER 170/190 AFM to include the following statement. This may be done by inserting a copy of this AD in the AFM. Factory-installation or installation of the applicable software required by paragraph (h) of this AD terminates the AFM revision required by this paragraph.

“After applying thrust reverser, do not move the throttle back to the forward thrust range, unless the REV icon on the EICAS is shown in amber or green.”

Note 1: When a statement identical to that in paragraph (f) of this AD has been included in the general revisions of the AFM, the general revisions may be inserted into the AFM, and the copy of this AD may be removed from the AFM.

New Requirements of This AD

AFM Revision for New Airplanes

(g) For Model ERJ 170-200 LR, -200 STD, and -200 SU airplanes; and Model ERJ 190-200 IGW, -200 LR, and -200 STD airplanes: Within 14 days after the effective date of this AD, revise the Limitations section of the EMBRAER 170/190 AFM to include the following statement. This may be done by inserting a copy of this AD in the AFM. Factory-installation or installation of the applicable software required by paragraph (h) of this AD terminates the AFM revision required by this paragraph.

“After applying thrust reverser, do not move the throttle back to the forward thrust range, unless the REV icon on the EICAS is shown in amber or green.”

Note 2: When a statement identical to that in paragraph (g) of this AD has been included in the general revisions of the AFM, the general revisions may be inserted into the AFM, and the copy of this AD may be removed from the AFM.

Software Installation

(h) Within 1,200 flight hours after the effective date of this AD, install the full-authority digital engine-control (FADEC) software specified in paragraph (h)(1), (h)(2), or (h)(3) of this AD, as applicable. Installing the applicable software terminates the applicable AFM revision required by paragraph (f) or (g) of this AD.

(1) For Model ERJ 170-100 LR, -100 SE, -100 STD, -100 SU, -200 LR, -200 STD, and -200 SU airplanes identified in EMBRAER Service Bulletin 170-73-0003, Revision 01, dated September 4, 2006: Install engine FADEC software version 5.30 or higher in accordance with the service bulletin.

(2) For the Model ERJ 190-200 LR airplane identified in EMBRAER Service Bulletin 190-73-0005, dated November 9, 2006: Install engine FADEC software version 5.10 or higher in accordance with the service bulletin.

(3) For Model ERJ 190-100 IGW, -100 LR, -100 STD, -200 IGW, -200 LR, and -200 STD airplanes identified in EMBRAER Service Bulletin 190-73-0009, Revision 01, dated April 23, 2007: Install engine FADEC software version 5.20 or higher in accordance with the service bulletin.

Alternative Methods of Compliance (AMOCs)

(i)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(j) Brazilian airworthiness directive 2006-03-02R1, effective February 27, 2007; and Brazilian airworthiness directive 2006-03-03R1, effective November 9, 2007; also address the subject of this AD.

Material Incorporated by Reference

(k) You must use the service information listed in Table 1 of this AD to perform the actions that are required by this AD, as applicable, unless the AD specifies otherwise. The Director of the Federal Register approved the incorporation by reference of these documents in accordance with 5 U.S.C. 552(a) and 1 CFR part 51. Contact Empresa Brasileira de Aeronautica S.A. (EMBRAER), P.O. Box 343-CEP 12.225, Sao Jose dos Campos-SP, Brazil, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Table 1.—Material Incorporated by Reference
EMBRAER Service Bulletin | Revision level | Date
170-73-0003 | 01 | September 4, 2006.
190-73-0005 | Original | November 9, 2006.
190-73-0009 | 01 | April 23, 2007.

Issued in Renton, Washington, on April 8, 2008.
Ali Bahrami,
Manager, Transport Airplane Directorate, Aircraft Certification Service.

[FR Doc. E8-8255 Filed 4-18-08; 8:45 am]

BILLING CODE 4910-13-P